OFFICE OF PERSONNEL MANAGEMENT

Excepted Service

AGENCY: U.S. Office of Personnel Management (OPM).

ACTION: Notice.

SUMMARY: This gives notice of OPM decisions granting authority to make appointments under Schedules A, B, and C in the excepted service as required by 5 CFR 6.6 and 213.103.

FOR FURTHER INFORMATION CONTACT: Glenda Haendschke, Acting Group Manager, Executive Resources Services Group, Center for Human Resources, Division for Human Capital Leadership and Merit System Accountability, 202-606-2246.

SUPPLEMENTARY INFORMATION: Appearing in the listing below are the individual authorities established under Schedules A, B, and C between December 1, 2008, and December 31, 2008. Future notices will be published on the fourth Tuesday of each month, or as soon as possible thereafter. A consolidated listing of all authorities as of September 30 is published each year.

Schedule A

No Schedule A appointments were approved for December 2008.

Schedule B

No Schedule B appointments were approved for December 2008.

Schedule C

The following Schedule C appointments were approved during December 2008.

Executive Office of the President

Department of State

DSGS69758 Foreign Affairs Officer to the Ambassador-At-Large (War Crimes). Effective December 10, 2008.

Department of the Interior

DIGS01132 Special Assistant—Scheduling and Advance to the Director of Scheduling and Advance. Effective December 02, 2008.

United States International Trade Commission

TCGS60100 Staff Assistant (Legal) to a Commissioner. Effective December 09, 2008.

Department of Transportation

DTGS60462 Associate Director for Public Affairs to the Deputy Director for Public Affairs. Effective December 10, 2008.

Authority: 5 U.S.C. 3301 and 3302; E.O. 10577, 3 CFR 1954-1958 Comp., p. 218.

U.S. Office of Personnel Management.
Kathie Ann Whipple,
Acting Director.

[FR Doc. E9-5585 Filed 3-13-09; 8:45 am]

BILLING CODE 6325-39-P